DEPARTMENT OF COMMERCE

Foreign-Trade Zones Board

[B-48-2014]

Foreign-Trade Zone (FTZ) 277—Western Maricopa County, Arizona; Notification of Proposed Production Activity, Maxwell Technologies, Inc., (Electrode and Capacitor Manufacturing), Peoria, Arizona

Greater Maricopa Foreign-Trade Zone, Inc., grantee of FTZ 277, submitted a notification of proposed production activity to the FTZ Board on behalf of Maxwell Technologies, Inc. (Maxwell), located in Peoria, Arizona. The notification conforming to the requirements of the regulations of the FTZ Board (15 CFR 400.22) was received on June 27, 2014.

A separate application for usage-driven designation at the Maxwell facility was submitted and will be processed under Section 400.38 of the Board's regulations. The facility is used for the manufacturing of electrodes and capacitors. Pursuant to 15 CFR 400.14(b), FTZ activity would be limited to the specific foreign-status materials and components and specific finished products described in the submitted notification (as described below) and subsequently authorized by the FTZ Board.

Production under FTZ procedures could exempt Maxwell from customs duty payments on the foreign status components used in export production. On its domestic sales, Maxwell would be able to choose the duty rates during customs entry procedures that apply to electrodes and capacitors (duty rate free) for the foreign status inputs noted below. Customs duties also could possibly be deferred or reduced on foreign status production equipment.

The components and materials sourced from abroad include: Aluminum foil and carbon powder (duty rate ranges from 4.8% to 5.3%).

Public comment is invited from interested parties. Submissions shall be addressed to the Board's Executive Secretary at the address below. The closing period for their receipt is August 18, 2014.

A copy of the notification will be available for public inspection at the Office of the Executive Secretary, Foreign-Trade Zones Board, Room 21013, U.S. Department of Commerce, 1401 Constitution Avenue NW., Washington, DC 20230-0002, and in the “Reading Room” section of the Board's Web site, which is accessible via www.trade.gov/ftz.

FOR FURTHER INFORMATION CONTACT: Christopher Kemp at Christopher.Kemp@trade.gov or (202) 482-0862.

Dated: July 1, 2014.
Elizabeth Whiteman,
Acting Executive Secretary.

[FR Doc. 2014-15921 Filed 7-7-14; 8:45 am]

BILLING CODE 3510-DS-P